UNIFIED CARRIER REGISTRATION PLAN

Sunshine Act; Meeting

TIME AND DATE: April 14, 2022, 12:00 p.m. to 2:00 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 958 7403 6554, to listen and participate in this meeting. The website to participate via Zoom Meeting and Screenshare is https://kellen.zoom.us/meeting/register/tJElcO2orT0vH9CxBiNWU-YxkpaZBRY7ISG8.

STATUS: This meeting will be open to the public.

MATTERS TO BE CONSIDERED: The Unified Carrier Registration Plan Audit Subcommittee (the “Subcommittee”) will continue its work in developing and implementing the Unified Carrier Registration Plan and Agreement. The subject matter of this meeting will include:

Proposed Agenda

I. Call to Order—Audit Subcommittee Chair

The Audit Subcommittee Chair will welcome attendees, call the meeting to order, call roll for the Audit Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Audit Subcommittee Chair

For Discussion and Possible Audit Subcommittee Action

The Agenda will be reviewed, and the Subcommittee will consider adoption of the agenda.

Ground Rules

➢ Subcommittee action only to be taken in designated areas on the agenda.

IV. Review and Approval of Subcommittee Minutes From the December 2, 2021 Meeting—Audit Subcommittee Chair

For Discussion and Possible Subcommittee Action

Draft minutes from the December 2, 2021 Subcommittee meeting via teleconference will be reviewed. The Subcommittee will consider action to approve.

V. Proposal To Revise the UCR Handbook Regarding Calculating Fees and New Market Entrants—Audit Subcommittee Chair

For Discussion and Possible Subcommittee Action

The Audit Subcommittee Chair will discuss potential revisions to the UCR Handbook regarding terminology used for calculating the UCR fees based on the 6-tier system, and new entrants into the market. The Audit Subcommittee may consider action to recommend revisions to the UCR Board of the UCR Handbook calculating UCR fees and when new market entrants are subject to payment of UCR.

VI. Proposal To Revise the Relevant Time-Period Described in the UCR Handbook—Audit Subcommittee Chair

For Discussion and Possible Subcommittee Action

The Audit Subcommittee Chair will discuss potential revisions to the UCR Handbook regarding the relevant time-period to use for determination of the size of a carrier fleet, for purposes of its UCR tier used to register for UCR. The Audit Subcommittee may consider action to recommend revisions to the UCR Board of the UCR Handbook regarding relevant time-period to use for determination of the size of a carrier fleet for purposes of its UCR tier used to register for UCR.

VII. Proposal To Revise the UCR Handbook Regarding Lightweight or Other Non-Commercial Motor Vehicles—Audit Subcommittee Chair

For Discussion and Possible Subcommittee Action

The Audit Subcommittee Chair will discuss potential revisions to the UCR Handbook regarding the definition of lightweight or other non-commercial motor vehicles. The Audit Subcommittee may consider action to recommend revisions of the UCR Handbook to the UCR Board regarding lightweight or other non-commercial motor vehicles.

VIII. Maximizing the Value of the Shadow MCMIS Tools—Audit Subcommittee Chair and DSL Transportation Services, Inc. (“DSL”)

The Subcommittee Chair and DSL will provide an update on the value achieved by utilizing the Shadow MCMIS tools in the National Registration System. The discussion will highlight the financial value to the states by vetting businesses for UCR compliance, commercial registration, IFTA, intrastate, and interstate operating authority.

IX. Review States' Audit Compliance Rates for Registration Years 2021 and 2022—UCR Audit Subcommittee Chair

The UCR Subcommittee Chair will review audit compliance rates for the states for registration years 2021 and 2022 and related compliance percentages for Focused Anomaly Reviews (“FARs”) Module, retreat audits and registration compliance percentages.

X. Open Discussion Regarding Ways and Means To Increase UCR Registration Percentages—Audit Subcommittee Chair

The Audit Subcommittee Chair will lead a discussion to share state resources (auditors and other contacts), leveraging partner relationships, auditing tools, and other ideas to increase UCR registration percentages to promote compliance and fairness within the industry.

XI. Introduction of the New UCR Depository Auditors—UCR Depository Manager

The UCR Depository Manager will lead a discussion to introduce the new independent auditing firm, Warren Averett CPAs and Advisors, to the Audit Subcommittee. The Audit Subcommittee is the UCR subcommittee which has governance oversight for the Depository audit process.

XII. Other Items—Audit Subcommittee Chair

The UCR Audit Subcommittee Chair will call for any other items Subcommittee members would like to discuss.

XIII. Adjournment—Audit Subcommittee Chair

The UCR Audit Subcommittee Chair will adjourn the meeting.

The agenda will be available no later than 5:00 p.m. Eastern time, April 6, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-07669 Filed 4-6-22; 11:15 am]

BILLING CODE 4910-YL-P